NATIONAL SCIENCE FOUNDATION

Agency Information Collection Activities: Comment Request; Account Management Profile

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by May 24, 2022 to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Account Management Profile.

OMB Control No.: 3145-New.

Expiration Date of Approval: Not applicable.

Abstract: The purpose of the National Science Foundation's (NSF) Account Profile is to collect information (contact, demographics, professional and academic references) on Research.gov. This profile will assist the NSF in maintaining a centralized registration and profile management process for individuals. NSF may track information provided over time to review and evaluate NSF programs, facilitate proposal submission, simplify reviewer activities, and provide data for the selection and management of reviewers and related merit review functions. Collecting this information supports the program officers across each directorate by improving efficiencies for internal staff, leveraging consolidated profile data, and creating a seamless user experience for the scientific community. This process will also provide researchers with a consolidated profile and access to their information in the Research.gov system, with the ability to easily access and update their information as necessary. In addition, the Biden Administration has made it a priority to deliver services more equitably and effectively via Executive Order 14058, Transforming Federal Customer Experience and Service Delivery to Rebuild Trust in Government. The President directed heads of agencies to integrate activities to improve customer experience and identify means by which their respective agencies can improve transparency and accessibility for their customers. This expansion effort will allow users to self-report demographic and professional information over time that will enable program officials to select diverse panels and expand opportunities to increase participation from underrepresented groups and diverse institutions throughout the United States in all NSF activities and programs.

Respondents: Researchers and administrative support professionals.

Estimated Number of Annual Respondents: 565,146.

Burden on the Public: Estimated 5 minutes to fill out the contact, demographics, professional and academic information, including the collection of data to fill in the fields. This assumption includes users who have filled out information in the past and do not wish to update their information. The demographic information should be readily available as the selection fields are available on Research.gov today and the professional information can be gathered from external data sources. The estimated burden time is 47,095 hours.

Dated: March 22, 2022.
Suzanne H. Plimpton,
Reports Clearance Officer, National Science Foundation.

[FR Doc. 2022-06347 Filed 3-24-22; 8:45 am]

BILLING CODE 7555-01-P